DEPARTMENT OF THE INTERIOR

National Park Service

Stehekin River Corridor Implementation Plan: North Cascades National Park Service Complex, Lake Chelan National Recreation Area, Chelan County, WA; Notice of Intent To Prepare an Enviornmental Impact Statement

Summary: In accord with § 102(2)(C) of the National Environmental Policy Act of 1969 (42 U.S.C. 4321, et seq.) and the Council on Environmental Quality regulations (40 CFR parts 1500-1508), the National Park Service (in cooperation with the Western Federal Lands Division of Federal Highway Administration) is undertaking a conservation planning and environmental impact analysis process to determine future management of public and inter-mingled private lands in the lower Stehekin River Valley within Lake Chelan National Recreation Area. An Environmental Impact Statement (EIS) will be prepared for a Stehekin River Corridor Implementation Plan, in conjunction with revising the current Land Protection Plan, which will guide land protection and Stehekin River management within Lake Chelan NRA.

Background: The National Park Service (NPS) collectively manages North Cascades National Park, Lake Chelan NRA, and Ross Lake National Recreation Area as North Cascades National Park Service Complex (North Cascades). The Stehekin Valley is a glacial valley that begins at the crest of Cascade Pass within North Cascades National Park and ends where the river flows into Lake Chelan, the third deepest natural lake in the United States. Lake Chelan is a 55-mile-long, 1,500-foot-deep lake with exceptionally steep valley walls reminiscent of a fjord. The natural level of the lake was raised 21 feet by a hydroelectric/flood-control dam in the 1920s. Approximately the upper five miles of Lake Chelan and the lower nine miles of the Stehekin River are within Lake Chelan NRA.

Geographically this remote area is a long, narrow corridor, within which numerous private homes and public facilities are located. People have been living in the Stehekin area since the valley was homesteaded in the mid-1800s. Approximately 100 people live in the Stehekin Community year-round, while many others visit periodically, most in summer. In addition, the Stehekin area draws visitors from around the world to camp, fish, swim, raft, kayak, bicycle, hike and engage in other activities. Some stay for only a few hours (between ferry landings), while some stay for days or weeks hosted by the park and the Stehekin Community.

Prior to the late 20th century, like most rivers on the east slope of the Cascade Range, the Stehekin River had flooded primarily due to spring snowmelt. Since the 1960s, however, flooding appears to have become more likely during fall rain-on-snow events, which rise quickly and occur from mid-October through December. The unprecedented occurrence of several 100-year fall floods and one 500-year flood since 1995 has substantially altered the river channel and floodplain, resulting in channel migration, erosion of river banks, and flooding in some areas during even relatively low flood conditions. As a result, private landowners and NPS facilities in the lower Valley have repeately been threatened or damaged by recent flooding. Since the 1960s, the number of river channelization and bank stabilization structures has increased to some 1.5 miles at 41 sites.

Purpose and Need: The three largest recorded floods on the Stehekin River have occurred within the past 12 years—in 1995, 2003, and 2006. Prior to this, the last large flood of similar magnitude occurred in 1948. Because of ongoing impacts to federal lands and private property from the increased magnitude and frequency of flooding, sustainable management strategies and actions are needed to fulfill the intent of the 1995 Lake Chelan NRA General Management Plan (GMP) to allow for natural processes associated with the Stehekin River to occur, to maintain park facilities (including the road system, nearby campgrounds, and administrative areas), and to help ensure the sustainability of visitor services provided by the Stehekin community.

Some of these management strategies and actions were identified by the Lake Chelan GMP. Among other actions, the GMP called for the relocation of park facilities out of the floodplain. The GMP and accompanying 1995 Lake Chelan Land Protection Plan (LPP) also called for the continued purchase and/or exchange of private lands within the floodplain. Although tiered to the GMP, this Stehekin River Corridor Impementation Plan would provide more detailed management guidance. As a result, this implementation plan will identify additional sustainable management strategies and actions related to or clarified from the Lake Chelan GMP and will review and refine existing management strategies and actions based on continuing research applicable to river management practices. This conservation planning and environmental impact analysis process is also intended to update the LPP.

Changes in the origin, magnitude, and frequency of floods have led to a shift in floodplain boundaries, and a recurring threat to public and private facilities. It is possible that the Stehekin River system may be evolving from a spring snowmelt dominated system to one dominated by bigger, more frequent fall rain-on-snow floods. Because of channel changes associated with the three most recent large floods, smaller floods now inundate areas that were not within the 100-year floodplain prior to 1995. Other areas that were within the floodplain have now become part of the active river channel. These changing hydrological conditions and the rapid accumulation of large woody debris and flood-deposited sediment along the Stehekin River have led to a landscape that requires management changes not envisioned by previous plans or treated holistically in actions on federal lands or private property to date. This implementation plan will identify the most effective and sustainable strategies and actions for future management of the Stehekin River corridor based upon the laws, regulations and policies that guide the administration of NPS lands.

Preliminary Issues: NPS personnel, interagency staff, and area residents have begun to internally evaluate the state of knowledge about the Stehekin River and to review past management actions to identify a variety of preliminary issues and potential future management actions. The following issues and actions constitute a starting point for engaging the public in the conservation planning process:

Comprehensive analysis of the sustainability of public and administrative roads within the Lower Stehekin Valley: Because of channel changes associated with the three most recent large floods, public and administrative roads in several locations now become inundated during smaller flood events and bank erosion threatens road networks at additional sites, cutting off access. There is a need for a comprehensive analysis of what steps would be needed to maintain the public and administrative road system, including identifying possible reroute locations out of the floodplain and the associated environmental effect. The analysis of any reroutes will need to include potential effects on federal or state listed species.

Possible relocation or modification of recreational and administrative facilities within the Lower Stehekin Valley: Changes in the river have caused significant shifts in floodplain boundaries for the 100-year flood. Development areas which did not flood before 2003 now flood frequently, placing some recreational and administrative sites and facilities in the Lower Stehekin Valley at risk. Among the affected facilities are the group campsites at Harlequin Campground and several formerly private cabins that have been destroyed by flooding, yet remain as dilapidated structures or debris piles along the river, diminishing scenic qualities.

Updating the Lake Chelan Land Protection Plan: The Land Protection Plan was designed in large part to protect the river corridor from development. Since the Land Protection Plan was approved in 1995, the NPS has exchanged several parcels of land. An update is needed to determine how previous land protection priorities would be modified by new information associated with preliminary changes to floodplain mapping and by lands acquired since the plan was developed. The update would likely include refining criteria used to evaluate land purchases and exchanges and acquisition priorities.

Providing guidance for future river bank and flood protection measures in the Lower Stehekin Valley, including management of large, woody debris and restoration of riparian areas: Despite erosion and flood protection efforts by the NPS and private landowners, bank erosion continues to threaten public and private property. Channel changes associated with the floods have placed more pressure on some sites, while decreasing erosion rates at others. As certain channel reaches fill with gravel, large logjams have formed at side channel openings. Large wood affects flooding issues and recreational use of the river. Future actions if inappropriate could impact federal and state listed species or/and increase the spread of non-native plans.

While recent changes in flooding and erosion are occurring throughout the lower Stehekin River Valley, two key points in the valley that have undergone major changes are the river mouth and McGregor Meadows: At the valley mouth, the changing level of Lake Chelan influences the gradient and velocity of the river as far as a ¼ mile upstream. The slowing of the river in turn triggers deposition of sediment and large woody debris. At McGregor Meadows, the valley widens three-fold, triggering a loss in river gradient, the deposition of massive amounts of gravel, and the accumulation of large log jams. These changes in the river system lead to impacts to roads, visitor facilities, and private property. Response has been on an event-by-event basis. The resulting outcomes as well as public understanding gained over the last 10 years underscores the need for developing comprehensive, sustainable guidance for future bank erosion and flood protection measures, including management of large, woody debris and restoration of riparian areas.

NPS personnel, interagency staff, and Stehekin landowners have begun to identify preliminary components of a comprehensive implementation plan. Possible management actions may include combinations of the following (or other feasible actions as may be identified by the public during the scoping phase):

Continue current management practices, such as reacting to periodic flooding by installing bank erosion protection devices or relocating the Stehekin Valley Road on a case-by-case basis; considering requests from private landowners regarding appropriate actions to take so as to avoid consequences of flooding, including elevating their homes; responding to private property owners as they seek permission to take action on NPS land to protect adjacent private property; continue to evaluate the suitability of lands for exchange as requests for exchanges are made or as the NPS acquires new land; continue research to determine the efficacy of long-term bank stabilization (erosion protection) measures.

In addition to maintaining some current management activities, new practices which may be evaluated include:

• Use new floodplain mapping to identify new threats to private and public structures and to identify what lands can be managed sustainably under existing conditions (with structures or facilities);

• Update land exchange criteria/priorities to reinvigorate land exchange process;

• Analyze the amount and movement of large woody debris to determine if management changes are needed (potentially refining GMP direction to allow for limited manipulation of large woody debris in an effort to protect certain areas from large flood damage);

• Relocate parts of private and public roads, campgrounds, or campsites from the floodplain;

• Work with landowners to remove private facilities from the floodplain;

• Remove derelict structures, debris piles, or non-native plants from floodplain;

• Encourage moving or reconstructing private homes outside of the floodplain;

• Restore native riparian edge near Buckner Orchard to slow erosion rate; and

• Accept some facilities in floodplain.

Scoping Process: As a key step in the overall conservation planning and environmental impact analysis process necessary for achieving the goal of partnering to implement coordinated Stehekin River management, the NPS is seeking public comments and relevant information to guide the preparation of a Draft EIS. The objectives of the public scoping phase include: (1) Invite participation from federal, tribal, state, local governments and other interested parties; (2) Inform all interested parties about the scope of the problem and the need to find solutions; (3) Identify a preliminary range of management alternatives (in addition to a no-action alternative that will be used as a baseline of existing conditions from which to evaluate proposed changes in management); (4) Identify relevant natural and cultural resources, recreational uses, socioeconomic and other issues which warrant detailed environmental impact analysis, and eliminate issues or topics which do not require analysis; (5) Identify potential environmental consequences and suitable mitigation strategies.

Any parties wishing to express concerns about management issues or provide relevant environmental information that should be addressed in preparing the forthcoming EIS are strongly encouraged to submit written comments. Before including your address, phone number, e-mail address, or other personal identifying information in your comment, you should be aware that your entire comment—including your personal identifying information—may be made publicly available at any time. While you can ask us in your comment to withhold your personal identifying information, we cannot guarantee that we will be able to do so. All written comments must be postmarked or transmitted not later than March 31, 2008. Written comments should be mailed to North Cascades National Park Service Complex, Attn: SRCIP-EIS, 810 State Route 20, Sedro-Woolley, WA 98284 (or e-mailed to NOCA_planning@nps.gov—please include ``Stehekin River Corridor Implementation Plan'' in the subject header). Comments may also be submitted via the NPS Planning Environment & Public Comment Web site at www.parkplanning.nps.gov/NOCA.

Several public scoping workshops are anticipated to be held, including February 25 (Concrete), February 26 (Sedro-Woolley), March 4 (Bellingham), and March 5 (Seattle). Details regarding the workshops including times and meeting locations will be announced widely through local and regional news media, direct park mailings, and posted on the park's Web site at www.nps.gov/noca.

Decision Process: At this time, the Draft EIS is expected to be available for public review in spring 2009. Formal announcement of its availability will be published in the Federal Register, and through local and regional news media, as well as distribution to public libraries. Following due consideration of all comments as may be received, a Final EIS will be prepared. As a delegated EIS, the official responsible for a final decision is the Regional Director, Pacific West Region. Subsequently the official responsible for implementing the approved plan and for monitoring results is the Superintendent, North Cascades National Park Service Complex.

Dated: December 18, 2007.
Jonathan B. Jarvis,
Regional Director, Pacific West Region.

[FR Doc. 08-841 Filed 2-26-08; 8:45 am]

BILLING CODE 4310-T6-M